DEPARTMENT OF TRANSPORTATION

Federal Transit Administration

Announcement of Project Selections for FY 2008 Bus and Bus Facilities Discretionary Program Funds

AGENCY: Federal Transit Administration, DOT.

ACTION: Notice.

SUMMARY: The U.S. Department of Transportation (DOT) Federal Transit Administration (FTA) announces the discretionary selection of projects that will be funded using the unallocated Fiscal Year (FY) 2008 Bus and Bus Facilities Program funds.

FOR FURTHER INFORMATION CONTACT: The appropriate FTA Regional Administrator for grant-specific issues; or Kimberly Sledge, Office of Program Management, 202-366-2053, for general information about the Bus and Bus Facilities Program.

SUPPLEMENTARY INFORMATION:

Bus and Bus Facilities Program

A total of $96.02 million is available for discretionary allocation under the Bus and Bus Facilities Program (Bus Program) in FY 2008. FTA published a notice of funding availability on March 23, 2007, inviting proposals for funding under the FY 2007 program. Proposals submitted addressed a number of FTA priorities under the program, including replacement of vehicles that had met their useful life criteria, fleet expansion to improve service, bus related facilities, and investment in rural transportation systems. FTA received proposals totaling over $3.2 billion in response to the NOFA.

FTA reviewed all proposals submitted and rated them based on the criteria specified in the NOFA. FTA was not able to fund any of the meritorious projects submitted in response to the March 23, 2007, NOFA using FY 2007 discretionary funding; however, FTA has elected to utilize the proposals submitted in response to that NOFA to distribute most of the discretionary Bus Program funds that remain available in FY 2008.

Of the amount allocated, $9.60 million—or 10 percent of total program availability—is made available to the Chicago Transit Authority to support its request to the U.S. Department of Transportation's Solicitation of Proposals for its Congestion-Reduction Demonstration Initiative, issued November 13, 2007. The 26 other projects selected for funding reflect a number of urbanized areas of various sizes as well as several statewide requests for funding to meet State-defined urban and rural bus and bus facility capital needs.

Projects selected for funding are shown in Table 1 that accompanies this announcement.

Issued in Washington, DC, this 28th day of May, 2008.
James S. Simpson,
Administrator.

[FR Doc. E8-12241 Filed 5-30-08; 8:45 am]

BILLING CODE 4910-57-P